DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitions or any other persons showing a substantial interest in the subject matter of the investigations may request a public hearing, provided such request is filed in writing with the Director, Office of Trade Adjustment Assistance, at the address show below, not later than February 14, 2000.

Interested persons are invited to submit written comments regarding the subject matter of the investigations to the Director, Office of Trade Adjustment Assistance, at the address shown below, not later than February 14, 2000.

The petition filed in this case are available for inspection at the Office of the Director, Office of Trade Adjustment Assistance, Employment and Training Administration, U.S. Department of Labor, 200 Constitution Avenue, NW, Washington, DC 20210.

Signed at Washington, DC this 18th day of January, 2000.
Grant D. Beale,
Program Manager, Office of Trade Adjustment Assistance.

Appendix
[Petitions Instituted on 01/18/2000]
TA-W | Subject firm (petitioners) | Location | Date of petition | Product(s)
37,244 | Motorola, Inc. (Wkrs) | Arlington, IL | 12/10/1999 | Printed Circuit Boards.
37,245 | Pioneer Wear (Wkrs) | Albuquerque, NM | 12/30/1999 | Westernwear.
37,246 | Epperheimer, Inc. (Wkrs) | Kenai, AK | 12/14/1999 | Painters.
37,247 | ON Semiconductor (Co.) | Phoenix, AZ | 01/06/2000 | Semiconductors.
37,248 | First Fleet (Wkrs) | Harlingen, TX | 01/01/2000 | Provide Equipment for Distribution.
37,249 | Snap-On-Tool (Wkrs) | Ottawa, IL | 01/05/2000 | Distribution Center.
37,250 | BP Amoco Refinery (Wkrs) | Texas City, TX | 12/29/1999 | Gasoline.
37,251 | Beloit Mill Production (Wkrs) | Hattiesburg, MS | 12/02/1999 | Paper Making Machinery.
37,252 | Hampton Industries (Wkrs) | Martinsville VA | 12/28/1999 | Sleepwear and Bathrobes.
37,253 | Tab Products (Wkrs) | Turlock, CA | 12/16/1999 | Business File Folders.
37,254 | Sony Electronics (Co.) | Frankville, PA | 01/06/2000 | Audio Speakers.
37,255 | Otis Elevator (IUE) | Bloomington, IN | 01/07/2000 | Elevator Fixtures, Finals Sheetmetal.
37,256 | ABB Automation (Wkrs) | Williamsport, PA | 01/07/2000 | Cable Harnesses and Assembles.
37,257 | Great American Knitting (Co.) | Pottstown, PA | 01/07/2000 | Men's Gold Toe Socks.
37,258 | IPM Service (Co.) | Dallas, TX | 12/20/1999 | Testers for Alternator & Starters.
37,259 | ASC Automotive Specialist (Wkrs) | Raucho Dominque, CA | 01/05/2000 | Convertible Automobiles.
37,260 | L.P.F. Apparel Corp (Wkrs) | New York, NY | 01/06/2000 | Ladies' Better Suits.
37,261 | Ithaca Industries (Co.) | Glennville, GA | 01/06/2000 | Men's T-Shirts and Underwear.

[FR Doc. 00-2496 Filed 2-3-00; 8:45 am]

BILLING CODE 4510-30-M